DEPARTMENT OF HEALTH AND HUMAN SERVICES

Health Resources and Services Administration

Advisory Committee; Notice of Meeting

In accordance with section 10(a)(2) of the Federal Advisory Committee Act (Public Law 92-463), announcement is made of the following National Advisory body scheduled to meet during the month of November 2001.

Name: Maternal and Child Health Research Grants Review Committee.

Date and Time: November 15-16, 2001; 8 a.m. to 5 p.m.

Place: Doubletree Hotel, 1750 Rockville Pike, Rockville, Maryland 20852.

The meeting is open to the public on Thursday, November 15, 2001, from 8 a.m. to 9 a.m., and closed for the remainder of the meeting.

Purpose: To review research grant applications in the program areas of maternal and child health, administered by the Maternal and Child Health Bureau, Health Resources and Services Administration.

Agenda: The open portion of the meeting will cover opening remarks by the Director, Division of Research, Training and Education, who will report on program issues, congressional activities, and other topics of interest to the field of maternal and child health. The meeting will be closed to the public on Thursday, November 15, 2001, from 9 a.m. through the remainder of the meeting for the review of grant applications. The closing is in accordance with the provisions set forth in section 552b(c)(6),Title 5 U.S.C., and the Determination by the Associate Administrator for Management and Program Support, Health Resources and Services Administration, pursuant to Public Law 92-463.

Anyone wishing to obtain a roster of members, minutes of meetings, or other relevant information should write or contact Christopher DeGraw, M.D., M.P.H., Executive Secretary, Maternal and Child Health Research Grants Review Committee, Room 18A-55, Parklawn Building, 5600 Fishers Lane, Rockville, Maryland 20857, Telephone (301) 443-2190.

Dated: October 15, 2001.
Jane M. Harrison,
Director, Division of Policy Review and Coordination.

[FR Doc. 01-26371 Filed 10-18-01; 8:45 am]

BILLING CODE 4165-15-P